DEPARTMENT OF COMMERCE

International Trade Administration

[A-552-833]

Raw Honey From the Socialist Republic of Vietnam: Preliminary Results of Antidumping Duty Administrative Review; 2023-2024

AGENCY: Enforcement and Compliance, International Trade Administration, Department of Commerce.

SUMMARY: The U.S. Department of Commerce (Commerce) preliminarily determines that Ban Me Thout Honeybee Joint Stock Company (BMT), Daklak Honeybee Joint Stock Company (DakHoney), and 12 non-individually examined and separate-rate eligible exporters of raw honey from the Socialist Republic of Vietnam (Vietnam) sold subject merchandise to the United States at less than normal value (NV) during the period of review (POR) June 1, 2023, through May 31, 2024.

DATES: Applicable November 18, 2025.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On June 10, 2022, Commerce published in the Federal Register the antidumping duty (AD) order on raw honey from Vietnam.¹ On June 3, 2024, Commerce published in the Federal Register a notice of opportunity to request an administrative review of the Order.² On July 29, 2024, Commerce initiated an administrative review of the Order on raw honey from Vietnam.³ On September 20, 2024, Commerce corrected the Initiation Notice,⁴ to include eight companies that were inadvertently omitted from the Initiation Notice.⁵ On December 9, 2024, Commerce tolled certain deadlines in this administrative proceeding by 90 days.⁶ On April 30, 2025, Commerce extended the deadline for these preliminary results to September 29, 2025.⁷

¹ See Raw Honey from Argentina, Brazil, India, and the Socialist Republic of Vietnam: Antidumping Duty Orders, 87 FR 35501 (June 10, 2022) (Order).

² See Antidumping or Countervailing Duty Order, Finding, or Suspended Investigation; Opportunity To Request Administrative Review and Join Annual Inquiry Service List, 89 FR 47518 (June 3, 2024).

³ See Initiation of Antidumping and Countervailing Duty Administrative Reviews, 89 FR 60871 (July 29, 2024) (Initiation Notice).

⁴ See Initiation of Antidumping and Countervailing Duty Administrative Reviews, 89 FR 77079 (September 20, 2024).

⁵ Id. at Footnote 11.

⁶ See Memorandum, “Tolling of Deadlines for Antidumping and Countervailing Duty Proceedings,” dated December 9, 2024.

⁷ See Memorandum, “Extension of Deadline for Preliminary Results of Antidumping Duty Administrative Review,” dated April 30, 2025.

For a complete description of the events that followed the initiation of this review, see the Preliminary Decision Memorandum.⁸ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of Antidumping Duty Administrative Review of Raw Honey from the Socialist Republic of Vietnam; 2023-2024,” dated concurrently with this notice (Preliminary Decision Memorandum).

Scope of the Order

The product covered by this Order is raw honey from Vietnam. A full description of the scope of the Order is contained in the Preliminary Decision Memorandum.⁹

⁹ Id.

Separate Rates

The Tariff Act of 1930, as amended (the Act) and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. Section 735(c)(5)(A) of the Act states that the all-others rate should be calculated by averaging the weighted-average dumping margins calculated for individually-examined respondents, excluding dumping margins that are zero, de minimis, or based entirely on facts available.

Commerce preliminarily determines that information placed on the record by the two mandatory respondents, BMT and DakHoney, and 12 additional companies seeking a separate rate ¹⁰ demonstrate that these companies are preliminarily entitled to separate rate status. For the preliminary results of this review, we are assigning the separate rate respondents a dumping margin equal to the simple average of BMT's and DakHoney's margins.

¹⁰ See Appendix II for a list of these companies.

Vietnam-Wide Entity

Commerce finds that 18 companies under review have not established eligibility for a separate rate and are considered to be part of the Vietnam-wide entity for these preliminary results.¹¹ Commerce's policy regarding conditional review of the Vietnam-wide entity applies to this administrative review.¹² Under this policy, the Vietnam-wide entity will not be under review unless a party specifically requests, or Commerce self-initiates, a review of the entity. Because no party requested a review of the Vietnam-wide entity, the entity is not under review and the entity's rate of 60.03 percent is not subject to change.

¹¹ See Appendix III for a list of these companies.

¹² See Antidumping Proceedings: Announcement of Change in Department Practice for Respondent Selection in Antidumping Duty Proceedings and Conditional Review of the Nonmarket Economy Entity in NME Antidumping Duty Proceedings, 78 FR 65963 (November 4, 2013).

Methodology

Commerce is conducting this review in accordance with section 751(a)(1)(B) of the Act. We calculated export price and constructed export price in accordance with section 772 of the Act. Because Vietnam is a non-market economy country within the meaning of section 771(18) of the Act, we calculated NV in accordance with section 773(c) of the Act. For a full description of the methodology underlying our conclusions, see the Preliminary Decision Memorandum.

¹³ See Appendix II for a list of these companies.

Preliminary Results of the Administrative Review

Commerce preliminarily determines that the following estimated weighted-average dumping margins exist for the period June 1, 2023, through May 31, 2024:

Exporter | Weighted-average dumping margin (percent)
Ban Me Thuot Honeybee Joint Stock Company | 21.55
Daklak Honeybee Joint Stock Company | 6.72
Companies Receiving a Separate Rate ¹³ | 14.14

Disclosure

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to not later than 21 days after the date of the publication of this notice.¹⁴ Rebuttal briefs, limited to issues raised in the case briefs, may be filed no later than five days after the date for filing case briefs.¹⁵ Interested parties who submit case briefs or rebuttal briefs in this proceeding must submit: (1) a table of contents listing each issue addressed; and (2) a table of authorities.¹⁶

¹⁴ See 19 CFR 351.309.

¹⁵ See 19 CFR 351.309(d); see also Administrative Protective Order, Service, and Other Procedures in Antidumping and Countervailing Duty Proceedings, 88 FR 67069, 67077 (September 29, 2023) (APO and Service Final Rule).

¹⁶ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public executive summary for each issue raised in their briefs.¹⁷ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁸

¹⁷ We use the term “issue” here to describe an argument that Commerce would normally address in a comment of the Issues and Decision Memorandum.

¹⁸ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Assessment Rates

Pursuant to section 751(a)(2)(A) of the Act and 19 CFR 351.212(b)(1), Commerce will determine, and U.S. Customs and Border Protection (CBP) shall assess, antidumping duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For each individually examined respondent in this review whose weighted-average dumping margin in the final results of review is not zero or de minimis (i.e., less than 0.5 percent), Commerce intends to calculate importer/customer-specific assessment rates.¹⁹ Where the respondent reported reliable entered values, Commerce intends to calculate importer/customer-specific ad valorem assessment rates by aggregating the amount of dumping calculated for all U.S. sales to the importer/customer and dividing this amount by the total entered value of the merchandise sold to the importer/customer.²⁰ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²¹ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²²

¹⁹ See Antidumping Proceedings: Calculation of the Weighted Average Dumping Margin and Assessment Rate in Certain Antidumping Proceedings: Final Modification, 77 FR 8101 (February 14, 2012) (Final Modification).

²⁰ See 19 CFR 351.212(b)(1).

²¹ Id.

²² See Final Modification, 77 FR at 8103.

Pursuant to Commerce's refinement to its practice, for sales that were not reported in the U.S. sales database submitted by a respondent individually examined during this review, Commerce will instruct CBP to liquidate the entry of such merchandise at the dumping margin assigned to the Vietnam-wide entity.²³ For respondents not individually examined in this administrative review that qualified for a separate rate, the assessment rate will be equal to the simple average of BMT's and DakHoney's margins.

²³ For a full discussion of this practice, see Non-Market Economy Antidumping Proceedings: Assessment of Antidumping Duties, 76 FR 65694 (October 24, 2011).

Additionally, where Commerce determines that an exporter under review had no shipments of subject merchandise to the United States during the POR, any suspended entries of subject merchandise that entered under that exporter's CBP case number during the POR will be liquidated at the dumping margin assigned to the Vietnam-wide entity.

In accordance with section 751(a)(2)(C) of the Act, the final results of this review shall be the basis for the assessment of antidumping duties on entries of merchandise covered by the final results of this review and for future deposits of estimated antidumping duties, where applicable.

Cash Deposit Requirements

These cash deposit requirements, when imposed, shall remain in effect until further notice. The following cash deposit requirements will be effective for all shipments of the subject merchandise entered, or withdrawn from warehouse, for consumption on or after the publication date of the final results of this administrative review, as provided by section 751(a)(2)(C) of the Act: (1) for the companies listed above that have a separate rate, the cash deposit rate will be that rate established in the final results of this review (except, if the rate is zero or de minimis, then a cash deposit rate of zero will be established for that company); (2) for previously-examined Vietnamese and non-Vietnamese exporters not listed above that at the time of entry are eligible for a separate rate base on a prior completed segment of this proceeding, the cash deposit rate will continue to be the existing exporter-specific cash deposit rate; (3) for all non-Vietnamese exporters of subject merchandise which at the time of entry do not have a separate rate, the cash deposit rate will be the rate applicable to the Vietnamese exporter that supplied the non-Vietnamese exporter; and (4) for all Vietnamese exporters of subject merchandise that have not been found to be entitled to a separate rate at the time of entry, the cash deposit rate will be that for the Vietnam-wide entity (i.e., 60.03 percent ad valorem). These cash deposit requirements, when imposed, shall remain in effect until further notice.

Final Results of Review

Unless otherwise extended, Commerce intends to issue the final results of this administrative review, which will include the results of its analysis of issues raised in case and rebuttal briefs, within 120 days of publication of these preliminary results of review in the Federal Register, pursuant to section 751(a)(3)(A) of the Act.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these preliminary results of review in accordance with sections 751(a)(1) and 777(i)(1) of the Act, and 19 CFR 351.213(h)(2) and 351.221(b)(4).

Dated: September 29, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Scope of the Order

IV. Discussion of the Methodology

V. Currency Conversion

VI. Recommendation

Appendix II

List of Companies Receiving A Separate Rate

1. Ban Me Thuot Honeybee Joint Stock Company

2. Daklak Honeybee Joint Stock Company

3. Bao Nguyen Honeybee Co., Ltd.

4. Daisy Honey Bee Joint Stock Company

5. Dak Nguyen Hong Exploitation of Honey Company Limited TA

6. Dongnai HoneyBee Corporation

7. H.T. Honey Co., Ltd.

8. Hoang Tri Honey Bee Company Limited

9. Huong Rung Trading—Investment and Export Company (Huong Rung Co., Ltd.)

10. Nguyen Hong Honey, Co Ltd.

11. Southern Honey Bee Co., Ltd.

12. Spring Honeybee Co., Ltd.

13. Thanh Hao Bees Company Limited

14. Viet Thanh Food Technology Development Investment Company Limited (Viet Thanh Food Co., Ltd.)

Appendix III

List of Companies Included in the Vietnam-Wide Entity

1. Bee Honey Corporation of Ho Chi Minh City

2. Golden Bee Company Limited

3. Golden Honey Co., Ltd.

4. Hai Phong Honeybee Company Limited

5. Hanoi Honey Bee Joint Stock Company

6. Hanoi Honeybee Joint Stock Company

7. Hanoibee JSC

8. Highlands Honeybee Travel Co., Ltd.

9. Hoa Viet Honeybee One Member Company Limited (also known as Hoa Viet Honeybee Co., Ltd.)

10. Hung Binh Phat/Hung Binh Phat Co., Ltd.

11. Hung Thinh Trading Pvt.

12. Huong Viet Honey Co., Ltd.

13. Nhieu Loc Company Limited

14. Phong Son Limited Company/Phong Son Co., Ltd.

15. Saigon Bees Company Limited/Saigon Bees Co., Limited

16. Thai Hoa Viet Mat Bees Raising Co./Thai Hoa Mat Bees Rasing Co., Ltd./Thai Hoa Mat Bees Raising Co., Ltd.

17. TNB Foods Co., Ltd.

18. Vinawax Producing Trading and Service Company Limited

[FR Doc. 2025-20162 Filed 11-17-25; 8:45 am]

BILLING CODE 3510-DS-P